DEPARTMENT OF AGRICULTURE

Forest Service

Olympic Peninsula Resource Advisory Committee (RAC)

AGENCY: Forest Service, USDA.

ACTION: Notice of meeting.

SUMMARY: The Olympic Peninsula Resource Advisory Committee will hold its next meeting on May 7, 2003. The meeting will be held at Washington State University Extension Learning Center, 201 W Pattison, Port Hadlock, Washington. The meeting will begin at 9:30 a.m. and end at approximately 3:30 p.m. Agenda topics are: Introductions; Approval of minutes of previous meeting; Update on Title II and III Projects; Presentation of project proposals; Selection of recommended projects and priorities; Public comments; and Identify next meeting date and location.

All Olympic Peninsula Resource Advisory Committee Meetings are open to the public. Interested citizens are encouraged to attend.

FOR FURTHER INFORMATION CONTACT: Direct questions regarding this meeting to Ken Eldredge, RAC Liaison, USDA, Olympic National Forest Headquarters, 1835 Black Lake Blvd., Olympia, WA 98512-5623, (360) 956-2323 or Dale Hom, Forest Supervisor and Designated Federal Official, at (306) 956-2301.

Dated: April 3, 2003.
Dale Hom,
Forest Supervisor, Olympic National Forest.

[FR Doc. 03-8615 Filed 4-8-03; 8:45 am]

BILLING CODE 3410-11-M